FEDERAL COMMUNICATIONS COMMISSION

47 CFR Part 18

[ET Docket No. 98-42; FCC 03-123]

RF Lighting Devices

AGENCY: Federal Communications Commission.

ACTION: Proposed rule; termination.

SUMMARY: This document terminates this proceeding. We find that with the passage of time, the record in this proceeding has become outdated. There does not appear to be a need for further Commission action at this time, we are terminating this proceeding without prejudice to its substantive merits.

FOR FURTHER INFORMATION CONTACT: Hugh Van Tuyl, Office of Engineering and Technology, (202) 418-7506.

SUPPLEMENTARY INFORMATION: This is a summary of the Commission's Order, ET Docket No. 98-42, FCC 03-123, adopted May 27, 2003 and released May 30, 2003. The full text of this document is available on the Commission's Internet site at http://www.fcc.gov. It is also available for inspection and copying during regular business hours in the FCC Reference Center (Room CY-A257), 445 12th Street, SW., Washington, DC 20554. The full text of this document also may be purchased from the Commission's duplication contractor, Qualex International, Portals II, 445 12th St., SW., Room CY-B402, Washington, DC 20554; telephone (202) 863-2893; fax (202) 863-2898; e-mail qualexint@aol.com.

Summary of the Order

1. On April 1, 1998, the Commission adopted a Notice of Proposed Rule Making (“NPRM”) in this proceeding, 63 FR 20362, April 24, 1998. The NPRM proposed changes to part 18 of the Commission's rules to update the regulations for radio frequency (RF) lighting devices operating in the 2.2-2.8 MHz and 2400-2500 MHz (“2450 MHz”) bands. On June 9, 1999, the Commission adopted a First Report and Order, 64 FR 37417, July 12, 1999, that relaxed the emission limits for RF lighting devices operating in the 2.51-3.0 MHz band, but deferred action on changes to the rules for RF lighting devices operating in the 2450 MHz band to a future date.

2. We find that with the passage of time, the NPRM and record in this proceeding have become outdated. The proposal for changes to the rules for 2450 MHz RF lighting devices was made in 1998. The only party that expressed interest in producing such RF lighting devices has informed the Commission that it will no longer pursue development of RF lighting devices in the 2450 MHz band. There does not appear to be a need for further Commission action at this time, we are terminating this proceeding without prejudice to its substantive merits. If any party wishes to pursue the issues in this proceeding in the future, nothing precludes us from evaluating them in the context of a new proceeding.

Ordering Clauses

3. Pursuant to sections 4(i) and 4(j) of the Communications Act, 47 U.S.C. 154(i) and 154(j), ET Docket No. 98-42 is terminated, effective upon issuance of this order.

Federal Communications Commission.
William F. Caton,
Deputy Secretary.

[FR Doc. 03-15702 Filed 6-20-03; 8:45 am]

BILLING CODE 6712-01-P